DEPARTMENT OF HEALTH AND HUMAN SERVICES

Centers for Medicare & Medicaid Services

[CMS-2139-N]

Medicaid Program; Infrastructure Grant Program To Support the Competitive Employment of People With Disabilities

AGENCY: Centers for Medicare & Medicaid Services (CMS), HHS.

ACTION: Notice.

SUMMARY: This notice announces the availability of funding, through grants, for eligible States under the Ticket to Work and Work Incentives Improvement Act of 1999. The grant program is designed to assist States in developing infrastructures to support the competitive employment of people with disabilities by extending necessary Medicaid coverage to these individuals. This notice also contains pertinent information where States may apply for the grant program.

DATES: States should submit a notice of intent to apply for a grant no later than March 15, 2002.

Deadline for Grant Submission: Grant applications must be submitted by June 7, 2002 to be considered under the Fiscal Year 2003 annual funding cycle.

ADDRESSES: Standard application forms and related instructions are available from and must be formally submitted to: Judith Norris, Centers for Medicare and Medicaid Services, Office of Internal Customer Support, Acquisition and Grants Group, C2-21-15 Central Building, 7500 Security Boulevard, Baltimore, MD 21244-1850. (410) 786-5130, E-mail: Jnorris1@cms.hhs.gov.

Please note: While State agencies are only required to submit an original and two copies, submission of an original and 14 copies will greatly expedite the application process.

Website: You may access up-to-date information about the Medicaid Infrastructure Grants and obtain a complete Grant Solicitation at: http://www.hcfa.gov/medicaid/twwiia/twwiiahp.htm.

FOR FURTHER INFORMATION CONTACT: Questions about the grants may be directed to: Joe Razes, TWWIIA Program Manager, Disabled and Elderly Health Programs Group, Center for Medicaid and State Operations, Center for Medicare and Medicaid Services, Room S2-14-26, 7500 Security Boulevard, Baltimore, MD 21244-1850, (410) 786-6126, e-mail: Jrazes@cms.hhs.gov.

SUPPLEMENTARY INFORMATION: This notice announces the availability of funding for the infrastructure grants for the Fiscal Year 2003 annual funding cycle and contains the filing dates for consideration of grant applications for this funding cycle. Please refer to our May 31, 2000 notice (65 FR 34715), in which we first solicited States to apply for these grants under the Ticket to Work and Work Incentives Improvement Act of 1999, for more information concerning the grant process. The May 31, 2000 notice includes detailed information on application requirements, review procedures, an explanation of timely submission, and other relevant information.

Authority: Section 203 of the Ticket to Work and Work Incentives Improvement Act of 1999, Public Law 106-170. (Catalog of Federal Domestic Assistance Program No. 93.779, Centers for Medicare and Medicaid Services Research, Demonstration, and Evaluations).

Dated: January 23, 2002.
Thomas A. Scully,
Administrator, Centers for Medicare & Medicaid Services.

[FR Doc. 02-2017 Filed 1-24-02; 8:45 am]

BILLING CODE 4120-01-P